DEPARTMENT OF THE TREASURY

Internal Revenue Service

26 CFR Part 1

[REG-114126-07]

RIN 1545-BG54

Reduction of Foreign Tax Credit Limitation Categories Under Section 904(d); Correction

AGENCY: Internal Revenue Service (IRS), Treasury.

ACTION: Correction to notice of proposed rulemaking by cross-reference to temporary regulations and notice of public hearing.

SUMMARY: This document contains a correction to a notice of proposed rulemaking by cross-reference to temporary regulations and notice of public hearing that was published in the Federal Register on Friday, December 21, 2007 (72 FR 72645) providing guidance relating to the reduction of the number of separate foreign tax credit limitation categories under section 904(d) of the Internal Revenue Code.

FOR FURTHER INFORMATION CONTACT: Jeffrey L. Parry, 202-622-3070 (not a toll-free number).

SUPPLEMENTARY INFORMATION:

Background

The notice of proposed rulemaking by cross-reference to temporary regulations and notice of public hearing (REG-114126-07) that is the subject of this correction is under section 904 of the Internal Revenue Code.

Need for Correction

As published, the notice of proposed rulemaking by cross-reference to temporary regulations and notice of public hearing (REG-114126-07) contains an error that may prove to be misleading and is in need of clarification.

Correction of Publication

Accordingly, the notice of proposed rulemaking by cross-reference to temporary regulations and notice of public hearing (REG-114126-07) that was the subject of FR Doc. E7-24783 is corrected as follows:

On page 72645, column 3, in the preamble, under the paragraph heading “Comments and Public Hearing” paragraph 2, line 2, the language “for April 26, 2008, in the auditorium,” is corrected to read “for April 22, 2008 in the auditorium,”.

La Nita VanDyke,
Branch Chief, Publications and Regulations Branch, Legal Processing Division, Associate Chief Counsel, (Procedure and Administration).

[FR Doc. E8-578 Filed 1-14-08; 8:45 am]

BILLING CODE 4830-01-P